DEPARTMENT OF TRANSPORTATION

Federal Railroad Administration

[Docket No. RSAC-96-1, Notice No. 21]

Railroad Safety Advisory Committee; Notice of Meeting

AGENCY: Federal Railroad Administration (FRA), Department of Transportation (DOT).

ACTION: Notice of Railroad Safety Advisory Committee (“RSAC”) meeting.

SUMMARY: FRA announces the next meeting of the RSAC, a Federal Advisory Committee that develops railroad safety regulations through a consensus process. The meeting will address a wide range of topics, including possible adoption of specific recommendations for regulatory action.

DATES: The meeting of the RSAC is scheduled to commence at 9:30 a.m. and conclude at 3:00 p.m. on Friday, May 19, 2000.

ADDRESSES: The meeting of the RSAC will be held at The Madison Hotel, 1177 Fifteenth Street NW, Washington, DC, (202) 862-1600. The meeting is open to the public on a first-come, first-served basis and is accessible to individuals with disabilities. Sign and oral interpretation can be made available if requested 10 calendar days before the meeting.

FOR FURTHER INFORMATION CONTACT: Trish Paolella, RSAC Coordinator, FRA, 1120 Vermont Avenue, NW, Stop 25, Washington, D.C. 20590, (202) 493-6212 or Grady Cothen, Deputy Associate Administrator for Safety Standards and Program Development, FRA, 1120 Vermont Avenue, NW, Stop 25, Washington, D.C. 20590, (202) 493-6302.

SUPPLEMENTARY INFORMATION: Pursuant to section 10(a)(2) of the Federal Advisory Committee Act (Pub. L. 92-463), FRA is giving notice of a meeting of the Railroad Safety Advisory Committee (“RSAC”). The meeting is scheduled to begin at 9:30 a.m. and conclude at 3:00 p.m. on Friday, May 19, 2000. The meeting of the RSAC will be held at The Madison Hotel, 1177 Fifteenth Street NW, Washington, DC, (202) 862-1600. All times noted are Eastern Standard Time.

RSAC was established to provide advice and recommendations to the FRA on railroad safety matters. The Committee consists of 48 individual representatives, drawn from among 27 organizations representing various rail industry perspectives, and 2 associate non-voting representatives from the agencies with railroad safety regulatory responsibility in Canada and Mexico. Staff of the National Transportation Safety Board and Federal Transit Administration also participate in an advisory capacity.

The RSAC will be briefed on the current status of activities of RSAC working groups and task forces responsible for carrying out tasks the RSAC has accepted involving locomotive cab working conditions, positive train control, the definition of reportable “train accident”, roadway maintenance equipment safety standards, and incorporation of a provision for gage restraint measurement within the Track Safety Standards.

An informational briefing concerning a technical conference about remote control locomotives will be presented.

Please refer to the notice published in the Federal Register on March 11, 1996 (61 FR 9740) for more information about the RSAC.

Issued in Washington, DC on May 1, 2000.
George Gavalla,
Associate Administrator for Safety.

[FR Doc. 00-11105 Filed 5-3-00; 8:45 am]

BILLING CODE 4910-06-P